DEPARTMENT OF JUSTICE

Notice of Lodging of Consent Decree Pursuant to the Comprehensive Environmental Response, Compensation, and Liability Act of 1980, as Amended

Notice is hereby given that a proposed consent decree in the actions entitled United States v. Gayner, et al., Civil Action No. 00CV11037EFH (D. Mass.), and United States v. Glynn, Civil Action No. 99-40133 (D. Mass.), was lodged on May 26, 2000, with the United States District Court for the District of Massachusetts. The proposed consent decree resolves the claims of the United States against several potentially responsible parties (“Settling Defendants”) at the Nyanza Chemical Waste Dump Superfund Site, located in Ashland, Massachusetts (“Site”), under the Comprehensive Environmental Response, Compensation, and Liability Act (“CERCLA”), 42 U.S.C. 9601 et seq. The consent decree will also resolve the claims of the Commonwealth of Massachusetts (“Commonwealth”) in connection with the Site under CERCLA and the Massachusetts Oil and Hazardous Material Release Prevention and Response Act, M.G.L. c. 21E. The Settling Defendants include Robert E. Gayner, MCL Development Corporation, Edward J. Camille, and John J. Glynn, Jr., as Trustee of the Environmental Restoration Engineering Trust and the AIF Realty Trust. The consent decree includes a covenant not to sue by the United States under sections 106 and 107 of CERCLA, 42 U.S.C. 9606 and 9607 (including claims for natural resource damages), and under section 7003 of the Resource Conservation and Recovery Act (“RCRA”), 42 U.S.C. 6973.

Under the proposed consent decree, the Settling Defendants will pay $300,000 to the United States in order to reimburse the United States for its past unreimbursed response costs incurred in connection with the Site and $75,000 to the Commonwealth to reimburse the Commonwealth for its past unreimbursed response costs incurred in connection with the Site. In addition, the Settling Defendants have agreed to record an Environmental Restriction and Easement (“Easement”) with respect to each of their properties located at the Site. The Easements will impose certain restrictions on the use of these properties and will also provide access rights to the United States (until completion of the remedial action at the Site) and the Commonwealth (after completion of the remedial action at the Site).

The Department of Justice will receive, for a period of up to thirty days from the date of this publication, comments relating to the proposed consent decree. Any comments should be addressed to the Assistant Attorney General for the Environment and Natural Resources Division, P.O. Box 7611, Ben Franklin Station, Washington D.C. 20044, and should refer to United States v. Gayner et al., DOJ Ref. Number 90-11-2-340D. Commenters may request an opportunity for a public meeting in the affected area, in accordance with section 7003(d) of RCRA, 42 U.S.C. 6973(d).

The proposed consent decree may be examined at EPA Region 1, located at One Congress Street, Suite 1100, Boston, MA 02114 (contact Peter DeCambre, 617-918-1890). A copy of the proposed consent decree may be obtained by mail from the Department of Justice Consent Decree Library, P.O. Box 7611, Washington, DC, 20044. In requesting a copy, please refer to the referenced case and enclose a check in the amount of $30 (25 cents per page reproduction costs).

Joel M. Gross,
Section Chief, Environmental Enforcement Section, Environment and Natural Resources Division.

[FR Doc. 00-14455 Filed 6-7-00; 8:45 am]

BILLING CODE 4410-15-M